DEPARTMENT OF LABOR

Employment and Training Administration

[TA-W-52,669]

Carolina Shoe Company, Morganton, North Carolina; Notice of Termination of Investigation

Pursuant to section 221 of the Trade Act of 1974, as amended, an investigation was initiated on August 22, 2003, in response to a worker petition filed on behalf of workers at Carolina Shoe Company, Morganton, North Carolina.

The petitioners have requested that the petition be withdrawn. Consequently, the investigation has been terminated.

Signed at Washington, DC, this 28th day of August, 2003.
Linda G. Poole,
Certifying Officer, Division of Trade Adjustment Assistance.

[FR Doc. 03-23702 Filed 9-16-03; 8:45 am]

BILLING CODE 4510-30-P